DEPARTMENT OF TRANSPORTATION

Maritime Administration

[Docket No. DOT-MARAD-2016-0005]

Request for Comments of a Previously Approved Information Collection

AGENCY: Maritime Administration (MARAD), Department of Transportation.

ACTION: Notice and request for comments.

SUMMARY: In compliance with the Paperwork Reduction Act of 1995 (44 U.S.C. 3501 et seq.), this notice announces that the Information Collection Request (ICR) abstracted below is being forwarded to the Office of Management and Budget (OMB) for review and comments. A Federal Register Notice with a 60-day comment period soliciting comments on the following information collection was published on October 15, 2015 (80 FR 62167, No.199).

DATES: Comments must be submitted on or before March 3, 2016.

FOR FURTHER INFORMATION CONTACT: Michael Hokana, 202-366-0760, Office of Cargo and Commercial Sealift, Maritime Administration, U.S. Department of Transportation, 1200 New Jersey Avenue SE., Washington, DC 20590.

SUPPLEMENTARY INFORMATION: Title: Jones Act Vessel Availability Determinations.

OMB Control Number: 2133-0545.

Type of Request: Renewal of a Previously Approved Information Collection.

Abstract: The information is needed in order for the Maritime Administrator to make a timely and informed decision on the availability of coastwise qualified vessels in support of a request from the Department of Homeland Security prior to the final decision on granting a waiver request under 46 U.S.C. 501(b). The information will be specifically used to determine if there are coastwise qualified vessels available for a certain requirement.

Affected Public: Coastwise qualified vessel owners, operators, charterers, brokers and representatives.

Form(s): MA-1075, 1075A.

Estimated Number of Respondents: 85.

Estimated Number of Responses: 255.

Annual Estimated Total Annual Burden Hours: 383 hours.

ADDRESSES: Send comments regarding the burden estimate, including suggestions for reducing the burden, to the Office of Management and Budget, Attention: Desk Officer for the Office of the Secretary of Transportation, 725 17th Street NW., Washington, DC 20503.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

Authority: The Paperwork Reduction Act of 1995; 44 U.S.C. chapter 35, as amended; and 49 CFR 1.93.

Dated: January 12, 2016.
T. Mitchell Hudson, Jr.,
Secretary, Maritime Administration.

[FR Doc. 2016-01863 Filed 2-1-16; 8:45 am]

BILLING CODE 4910-81-P